DEPARTMENT OF AGRICULTURE

Natural Resources Conservation Service

Field Office Technical Guide, Changes; South Dakota

AGENCY: USDA Natural Resources Conservation Service.

ACTION: Notice of Availability of proposed changes to conservation practice standards in Section IV of the Field Office Technical Guide (FOTG) of NRCS in South Dakota for review and comment.

SUMMARY: It is the intention of NRCS in South Dakota to issue revised conservation practice standards in Section IV of the FOTG for the following practice Constructed Wetland (656).

DATES: Comments on this notice must be received within 30 days from the publication date in the Federal Register.

ADDRESSES: All comments concerning the proposed conservation practice standard changes should be addressed to: Ronald Nadwornick, State Resource Conservationist, NRCS, 200 Fourth Street SW, Huron, South Dakota 57350. Copies of these standards will be made available upon written request.

Dated: April 24, 2001.
Ronald Nadwornick,
State Resource Conservationist, Natural Resources Conservation Service, Huron, South Dakota 57350.

[FR Doc. 01-14836 Filed 6-12-01; 8:45 am]

BILLING CODE 3410-16-P